DEPARTMENT OF COMMERCE

International Trade Administration

[A-552-822]

Fine Denier Polyester Staple Fiber From the Socialist Republic of Vietnam: Termination of Less-Than-Fair-Value Investigation

AGENCY: Enforcement and Compliance, International Trade Administration, Department of Commerce.

SUMMARY: On June 27, 2017, the Department of Commerce (the Department) published its initiation of less-than-fair-value investigations of fine denier polyester staple fiber (fine denier PSF) from China, India, Korea, Taiwan, and Vietnam. On June 29, 2017, DAK Americas LLC; Nan Ya Plastics Corporation, America; and Auriga Polymers Inc., (collectively, the petitioners), withdrew the antidumping duty (AD) petition with respect to Vietnam. Accordingly, we are terminating the AD investigation of fine denier PSF from Vietnam.

DATES: Applicable July 20, 2017.

FOR FURTHER INFORMATION CONTACT: Michael J. Heaney, AD/CVD Operations, Office VI, Enforcement and Compliance, International Trade Administration, U.S. Department of Commerce, 1401 Constitution Avenue NW., Washington, DC 20230; telephone (202) 482-4475.

SUPPLEMENTARY INFORMATION:

Background

On May 31, 2017, the Department received an AD petition concerning imports of fine denier PSF from Vietnam, filed on behalf of the petitioners.¹ On June 27, 2017, the Department published the initiation of the less-than-fair-value investigation of fine denier PSF from Vietnam.² On June 29, 2017, the petitioners submitted a letter withdrawing the AD petition with respect to Vietnam.³ Section 351.207(b)(1) of the Department's regulations stipulates that the Secretary may terminate an investigation provided it has concluded that termination of the investigation is in the public interest.⁴ Because petitioners have withdrawn their May 31, 2017, petition with respect to Vietnam, and have requested that the Department terminate this investigation, we determine that termination of this investigation is in the public interest, pursuant to 19 CFR 351.207(b)(1).⁵ Accordingly, pursuant to section 734(a)(1)(A) of the Tariff Act of 1930, as amended (the Act), and 19 CFR 351.207(b)(1), we are terminating the less-than-fair-value investigation with respect to Vietnam.

¹ See Letter to the Secretary of Commerce, Re: “Fine Denier Polyester Staple Fiber from the People's Republic of China, India, the Republic of Korea, Taiwan and the Socialist Republic of Vietnam—Petitions for the Imposition of Antidumping and Countervailing Duties,” dated May 31, 2017.

² See Fine Denier Polyester Staple Fiber from the People's Republic of China, India, the Republic of Korea, Taiwan, and the Socialist Republic of Vietnam: Initiation of Less-Than-Fair Value Investigations, 82 FR 29023 (June 27, 2017) (Initiation Notice).

³ See Letter from the Petitioners, Re: Fine Denier Polyester Staple Fiber from the Socialist Republic of Vietnam—Withdrawal of Vietnam Antidumping Duty Petition, dated June 29, 2017 (Withdrawal Letter).

⁴ See 19 CFR 351.207(b)(1) of the Regulations.

⁵ See Withdrawal Letter at 1-2.

Scope of the Investigation

The merchandise covered by this investigation is fine denier polyester staple fiber (fine denier PSF), not carded or combed, measuring less than 3.3 decitex (3 denier) in diameter. The scope covers all fine denier PSF, whether coated or uncoated. The following products are excluded from the scope:

(1) PSF equal to or greater than 3.3 decitex (more than 3 denier, inclusive) currently classifiable under Harmonized Tariff Schedule of the United States (HTSUS) subheadings 5503.20.0045 and 5503.20.0065.

(2) Low-melt PSF defined as a bi-component fiber with a polyester core and an outer, polyester sheath that melts at a significantly lower temperature than its inner polyester core currently classified under HTSUS subheading 5503.20.0015.

Fine denier PSF is classifiable under the HTSUS subheading 5503.20.0025. Although the HTSUS subheadings are provided for convenience and customs purposes, the written description of the scope of the investigation is dispositive.

Termination of Investigation

In accordance with section 734(a)(1)(A) of the Act and 19 CFR 351.207(b)(1), upon the petitioners' withdrawal of the petition, we are terminating the less-than-fair-value investigation of fine denier PSF with respect to Vietnam.

Dated: July 13, 2017.
Gary Taverman,
Deputy Assistant Secretary for Antidumping and Countervailing Duty Operations, performing the non-exclusive functions and duties of the Assistant Secretary for Enforcement and Compliance.

[FR Doc. 2017-15141 Filed 7-19-17; 8:45 am]

BILLING CODE 3510-DS-P